DEPARTMENT OF COMMERCE

International Trade Administration

[A-570-803]

Heavy Forged Hand Tools, Finished or Unfinished, With or Without Handles, From the People's Republic of China: Extension of Time Limit for Final Results of Antidumping Duty Administrative Reviews on Axes/Adzes, Bars/Wedges, Hammers/Sledges, and Picks/Mattocks

AGENCY: Import Administration, International Trade Administration, Department of Commerce.

ACTION: Notice of Extension of Time Limit of Final Results of Administrative Reviews.

SUMMARY: The Department of Commerce (the Department) is extending the time limit for the final results of the administrative reviews of the antidumping duty orders on axes and adzes, bars and wedges, hammers and sledges, and picks and mattocks from the People's Republic of China (PRC) until September 7, 2004. This extension is made pursuant to section 751(a)(3)(A) of the Tariff Act of 1930, as amended, (the Act).

DATES: Effective Date: June 29, 2004.

FOR FURTHER INFORMATION CONTACT: Thomas Martin at (202) 482-3936; Office of AD/CVD Enforcement, Office 4, Group II, Import Administration, International Trade Administration, U.S. Department of Commerce, 14th Street and Constitution Ave, NW., Washington, DC 20230.

SUPPLEMENTARY INFORMATION:

Background

On March 25, 2003, the Department published a notice of initiation of administrative reviews of the antidumping duty orders on heavy forged hand tools (HFHTs) from the PRC, covering the period February 1, 2002, through January 31, 2003. See Initiation of Antidumping and Countervailing Duty Administrative Reviews and Requests for Revocation in Part, 68 FR 14394 (March 25, 2003). The deadline for the preliminary results of these administrative reviews was extended on October 16, 2003. See Heavy Forged Hand Tools, Finished or Unfinished, With or Without Handles, From the People's Republic of China: Extension of Time Limit for Preliminary Results of Antidumping Duty Administrative Review, 68 FR 59583 (October 16, 2003). The Department published the preliminary results of these administrative reviews on March 10, 2004. See Heavy Forged Hand Tools, Finished or Unfinished, With or Without Handles, From the People's Republic of China: Preliminary Results of Administrative Reviews, Preliminary Partial Rescission of Antidumping Duty Administrative Reviews, and Determination Not To Revoke in Part, 69 FR 11371 (March 10, 2004).

Extension of Time Limits for Final Results of Reviews

Currently, the final results of administrative reviews are due on July 8, 2004. Section 751(a)(3)(A) of the Act requires the Department to complete its final results of review within 120 days after the date on which the preliminary results were published. However, the Department may extend the deadline for completion of an administrative review if it determines that it is not practicable to complete the review within the statutory time limit. Section 751(a)(3)(A) of the Act allows the Department to extend the deadline for completion of the final results to 180 days from the date of publication of the preliminary results. As a result of the complex issues involved in this review, the Department has determined that it is not practicable to complete these reviews within the original time limit. For this reason, we are extending the time limit by sixty days, to September 7, 2004. See Memorandum from Holly Kuga, Office Director, to Jeff May, Deputy Assistant Secretary for Import Administration, Group I, dated concurrently with this notice, which is on file in the Central Records Unit, Room B-099 of the main Commerce building.

This notice is published in accordance with section 735(a)(2) of the Act and 19 CFR 351.210(g).

Dated: June 23, 2004.
Jeffrey May,
Deputy Assistant Secretary for Import Administration, Group I.

[FR Doc. 04-14708 Filed 6-28-04; 8:45 am]

BILLING CODE 3510-DS-P